DEPARTMENT OF HEALTH AND HUMAN SERVICES

Administration for Children and Families

[OMB #0970-0449]

Submission for Office of Management and Budget (OMB) Review; Low Income Home Energy Assistance Program (LIHEAP) Performance Data Form

AGENCY: Office of Community Services, Administration for Children and Families, U.S. Department of Health and Human Services.

ACTION: Request for public comments.

SUMMARY: The Administration for Children and Families (ACF) Office of Community Services (OCS) within the U.S. Department of Health and Human Services (HHS) is requesting an extension without change to the current version of the Low Income Home Energy Assistance Program (LIHEAP) Performance Measures (OMB #0970-0449) for use through June 30, 2025, and for approval of a revised version to use beginning July 1, 2025.

DATES: Comments due May 29, 2025. OMB must decide about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this information collection by selecting “Currently under 30-day Review—Open for Public Comments” or by using the search function. You can also obtain copies of the proposed collection of information by emailing infocollection@acf.hhs.gov. Identify all emailed requests by the title of the information collection.

SUPPLEMENTARY INFORMATION:

Description: OCS administers LIHEAP at the federal level. The LIHEAP Performance Data Form (LPDF) is an annual report in response to Section 2610(b) of the Low-Income Home Energy Assistance Act of 1981 [42 U.S.C. 8629(b)] (LIHEAP statute), which requires the Secretary of HHS to submit, no later than June 30 of each federal fiscal year, a report to Congress on the impact of LIHEAP on recipient and eligible households for the prior federal fiscal year. The completeness, accuracy, consistency, and timeliness of responses to data collections are needed for HHS to do the following:

• Provide reliable and complete fiscal and household data to Congress in the Department's LIHEAP Report to Congress for the federal fiscal year; and

• Respond to questions from the Congress, Department, OMB, White House, and other interested parties in a timely manner; and

• Report LIHEAP performance results as part of the Administration's annual Congressional Justification.

In response to the 2010 Government Accountability Office (GAO) report, Low Income Home Energy Assistance Program—Greater Fraud Prevention Controls are Needed (GAO-10-621), and in consideration of the recommendations issued by the LIHEAP Performance Measures Implementation Work Group, OCS required the collection and reporting of these performance measures by state LIHEAP grant recipients, including the District of Columbia. The original LDPF was approved by OMB in November 2014 and has been in use since. The LPDF provides for the collection of data on state grant recipients' sources and uses of LIHEAP funds, including average benefit amounts, as well as data for the following developmental LIHEAP performance measures:

1. The benefit targeting index for high burden households receiving LIHEAP fuel assistance;

2. The burden reduction targeting index for high burden households receiving LIHEAP fuel assistance;

3. The number of households where LIHEAP prevented a potential home energy crisis; and

4. The number of households where LIHEAP benefits restored home energy.

All state LIHEAP grant recipients, including the District of Columbia, are required to complete the LPDF on an annual basis through ACF's web-based data collection and reporting system, the Online Data Collection, which is available at the GrantSolutions homepage (https://home.grantsolutions.gov/home). The reporting requirements will be described through the LIHEAP Forms and Funding Applications page (https://www.acf.hhs.gov/ocs/form/liheap-forms-and-funding-applications) of ACF's website.

This request will (1) continue approval to collect information using the currently approved version of the LPDF through June 30, 2025; and (2) incorporate changes to the LPDF designed to collect performance data on the impacts of supplemental federal LIHEAP funds and to improve form fields and language. The changes proposed would go into effect in July 2025 and consist of (1) changing the name of Module 1 of the form from “Grantee Survey” to “Grant Recipient Survey”; (2) adding an item for reporting carryover of Residential Energy Assistance Challenge (REACH) funds to the following FY; (3) adding an item for reporting non-administrative information technology enhancements; (4) removing maximum income cutoffs from funding uses; (5) replacement of sources and uses of Coronavirus Aid, Relief, and Economic Security Act (CARES Act) [Pub. L. 116-136] funds and American Rescue Plan Act of 2021 (ARPA) [Pub. L. 117-2] funds with the Infrastructure Investment and Jobs Act (IIJA) [Pub. L. 117-58] funds; and (6) minor wording and structural changes.

Module 1. Grant Recipient Survey

Module 1 of the LPDF will continue to require the following data from each state for the federal fiscal year:

• Grant recipient information.

• Sources and uses of LIHEAP funds, by funding type.

• Average LIHEAP household benefits, by funding type.

Modules 2, 2A, and 2B. Required LIHEAP Performance Measures

Modules 2, 2A, and 2B of the LPDF will continue to require the following data from each state for the federal fiscal year:

• Grant recipient information;

• Energy burden targeting;

• Restoration of home energy service; and

• Prevention of loss of home energy.

Modules 2, 2A, and 2B require reporting on households that received benefits from, respectively, non-supplemental funds, CARES Act funds, and ARPA funds.

Module 3. LIHEAP Performance Measures (Optional Reporting)

Module 3 of the LIHEAP LPDF will continue to voluntarily collect the following additional information from each interested grant recipient for the federal fiscal year:

• Average annual energy usage;

• Unduplicated number of households using supplemental heating fuel and air conditioning;

• Unduplicated number of households that had restoration of home energy service, and

• Unduplicated number of households that had prevention of loss of home energy.

LIHEAP grant recipients will be able to compare their own results to the results for other states, as well as to regional and national results, through the Data Warehouse of the LIHEAP Performance Management website as they manage their programs.

ACF published a Federal Register notice on December 2, 2024 soliciting 60 days of public comment on this request, including the minor revisions to go into effect in 2025. ACF received no comments on this notice.

Respondents: State governments, including the District of Columbia; the largest five electricity and natural gas vendors by state; the largest ten fuel oil and propane vendors by state; and the states' sub-recipients.

Annual Burden Estimates
LIHEAP performance data form | Total number of respondents | Annual number of responses per respondent | Average burden hours per response | Annual burden hours
State Grant Recipients—Module I | 51 | 1 | 30 | 1,530
State Grant Recipients—Modules II and III | 51 | 1 | 158.6 | 8,088.6
Sub-Grant Recipients (in states with sub-grant recipient managed systems)—Modules II and III | 100 | 1 | 6.3 | 630
Energy Vendors (largest 5 electric, 5 natural gas, 10 fuel oil, and 10 propane vendors per state-average)—Modules II and III | 1,530 | 1 | 8.5 | 13,005

Estimated Total Annual Burden Hours: 23,253.6.

Authority: 42 U.S.C. 8629(b).

Mary C. Jones,
ACF/OPRE Certifying Officer.

[FR Doc. 2025-07375 Filed 4-28-25; 8:45 am]

BILLING CODE 4184-80-P